DEPARTMENT OF VETERANS AFFAIRS

Loan Guaranty: Assistance to Eligible Individuals in Acquiring Specially Adapted Housing; Cost-of-Construction Index

AGENCY: Department of Veterans Affairs.

ACTION: Notice; withdrawal and reissuance.

SUMMARY: The Department of Veterans Affairs (VA) published a document in the Federal Register of October 22, 2020, concerning increases in aggregate amounts for Specially Adapted Housing grants. This notice withdraws the October 22, 2020, notice in its entirety and reissues the notice to include additional explanatory information and correct the aggregate amounts for Temporary Residence Adaptation grants and grants authorized in connection with rehabilitation programs.

DATES: The increases in aggregate amounts are effective October 1, 2020.

FOR FURTHER INFORMATION CONTACT: Terry Rouch, Assistant Director for Loan Policy and Valuation, Loan Guaranty Service (26), Veterans Benefits Administration, Department of Veterans Affairs, 810 Vermont Avenue NW, Washington, DC 20420, (202) 632-8862. (This is not a toll-free number.)

SUPPLEMENTARY INFORMATION: VA is withdrawing the notice VA published in the Federal Register of October 22, 2020, FR Doc. No. 2020-23381, on pages 67425-67426, and is reissuing the notice in its entirety.

In accordance with 38 U.S.C. 2102(e), 38 U.S.C. 2102A(b)(2), 38 U.S.C. 2102B(b)(2), and 38 CFR 36.4411, the Secretary of Veterans Affairs announces for FY 2021 the aggregate amounts of assistance available to veterans and service members eligible for SAH program grants.

Section 2102(e)(2) authorizes the Secretary to increase the aggregate amounts of SAH assistance annually based on a residential home cost-of-construction index. Per 38 CFR 36.4411(a), the Secretary uses the Turner Building Cost Index for this purpose.

In the most recent quarter for which the Turner Building Cost Index is available, 2nd Quarter 2020, the index showed an increase of 2.44 percent over the index value listed for 2nd Quarter 2019. Turner Construction Company—Cost Index, http://www.turnerconstruction.com/cost-index (last visited August 7, 2020). Pursuant to 38 CFR 36.4411(a), therefore, the aggregate amounts of assistance for SAH grants made pursuant to 38 U.S.C. 2101(a) and 2101(b) will increase by 2.44 percent for FY 2021.

Sections 2102A(b)(2) and 2102B(b)(2) require the Secretary to apply the same percentage calculated pursuant to section 2102(e) to grants authorized pursuant to sections 2102A and 2102B. As such, the maximum amount of assistance available under these grants will also increase by 2.44 percent for FY 2021.

The increases are effective as of October 1, 2020. 38 U.S.C. 2102(e), 2102A(b)(2), and 38 U.S.C. 2102B(b)(2).

Specially Adapted Housing: Aggregate Amounts of Assistance Available During Fiscal Year 2021

Section 2101(a) Grants and Temporary Residence Adaptation (TRA) Grants

The Ryan Kules and Paul Benne Specially Adaptive Housing Improvement Act of 2019 (the Act) increased the aggregate amount of SAH assistance to be provided under section 2101(a). Public Law 116-154, 134 Stat. 690, 691 (2020). The increase was made effective October 1, 2020. Thus, for section 2101(a) grants, VA is applying the 2.44 percent increase to the new amount provided under the Act, $98,492. Effective October 1, 2020, the aggregate amount of assistance available for SAH grants made pursuant to 38 U.S.C. 2101(a) will be $100,896 during FY 2021.

The maximum TRA grant made to an individual who satisfies the eligibility criteria under 38 U.S.C. 2101(a) and 2102A will be $40,637 during FY 2021.

Section 2101(b) Grants and TRA Grants

The Act also increased the aggregate amount of assistance to be provided under section 2101(b). Public Law 116-154, 134 Stat. 690, 691 (2020). The increase was made effective October 1, 2020. Thus, for section 2101(b) grants, VA is applying the 2.44 percent increase to the new amount provided under the Act, $19,733. Effective as of October 1, 2020, the aggregate amount of assistance available for SAH grants made pursuant to 38 U.S.C. 2101(b) will be $20,215 during FY 2021.

The maximum TRA grant made to an individual who satisfies the eligibility criteria under 38 U.S.C. 2101(b) and 2102A will be $7,256 during FY 2021.

Section 2102B Grants

Effective as of October 1, 2020, the amount of assistance available for grants made pursuant to 38 U.S.C. 2102B will be $92,569 during FY 2021; however, the Secretary may waive this limitation for a veteran if the Secretary determines a waiver is necessary for the rehabilitation program of the veteran.

Signing Authority

The Secretary of Veterans Affairs, or designee, approved this document and authorized the undersigned to sign and submit the document to the Office of the Federal Register for publication electronically as an official document of the Department of Veterans Affairs. Brooks D. Tucker, Assistant Secretary for Congressional and Legislative Affairs, Performing the Delegable Duties of the Chief of Staff, Department of Veterans Affairs, approved this document on October 15, 2020, for publication.

Jeffrey M. Martin,
Assistant Director, Office of Regulation Policy & Management, Office of the Secretary, Department of Veterans Affairs.

[FR Doc. 2020-24745 Filed 11-5-20; 8:45 am]

BILLING CODE 8320-01-P